DEPARTMENT OF HEALTH AND HUMAN SERVICES

Centers for Disease Control and Prevention

[Program Announcement AA010]

HIV Prevention and Care for Refugees and Host Populations in Turkana District, North Western Kenya; Notice of Intent To Fund Single Eligibility Award

A. Purpose

The Centers for Disease Control and Prevention (CDC) announces the intent to fund fiscal year (FY) 2005 funds for a cooperative agreement program to provide a comprehensive program for HIV prevention and care for refugees, humanitarian aid workers, and host populations in northwestern Kenya. This program should include the operation of centers for voluntary counseling and HIV testing in the Kakuma Refugee Camp, Lokichoggio, and Kalokol.

The Catalog of Federal Domestic Assistance number for this program is 93.067.

B. Eligible Applicant

Assistance will be provided only to the International Rescue Committee (IRC) Kenya. No other applications are solicited, for the following reasons:

Unique Ability

International Rescue Committee has 12 years of experience in providing care to refugees and host populations in Kenya.

IRC Kenya has been present in Kakuma refugee camp since its creation in 1992, and IRC Kenya has provided all of the medical care for the entire population of over 90,000 refugees in the Kakuma refugee camp since 1997, with funding from the U.S. State Department Bureau for Population, Refugees, and Migration (BPRM), United Nations High Commissioner for Refugees (UNHCR), and other donors. No agency can work in the Kakuma camp without the approval of UNHCR and the Government of Kenya (GOK) Ministry of Home Affairs, and IRC is the only agency, which has been given the mandate to provide medical and public health services in Kakuma.

HIV services in Kakuma camp are integrated into a broader primary care context, which results in: (a) Enhanced referral links that in turn increase program coverage (from curative to home based care and vice versa, from voluntary counseling and testing (VCT)/prevention of mother to child transmission (PMTCT) to curative, TB to curative, etc.); (b) improved achievement of the continuum of care goals that are the result of a coordinated system that follows patients from the moment of diagnosis to home based care through a care clinic; and (c) streamlined program management. It would not be appropriate for a different organization to provide HIV prevention and care in this unique setting as it is more efficient for this HIV component to be implemented in the context of the curative and preventive health care services IRC provides in the camp.

In addition, IRC has the infrastructure, skills base and knowledge of the region, which no other agency in the Turkana District in the health care sector has obtained. With IRC as implementing agency it would ensure that both maintaining and expanding on HIV/AIDS services in the district programs would have cohesion, greater context and cultural knowledge and a larger pool of resources.

Demonstrated Performance

IRC has the ability to plan, manage and implement programs in this remote area quickly and successfully.

In FY01, CDC awarded IRC a cooperative agreement through program announcement 00134—Leadership and Investment in Fighting an epidemic (LIFE) Global AIDS Program. With an annual award of $300,000, IRC has developed a comprehensive HIV prevention and care program in the Kakuma camp, which includes two VCT centers and PMCT services in the camp hospital. In FY04, with the United States President's Emergency Plan for AIDS Relief (PEPFAR) Track 1.5 funding, IRC established a VCT center in Lokichoggio, the transit point for Operation Lifeline Sudan. This center is now providing HIV prevention services to refugees, humanitarian aid workers flying into southern Sudan, and the local Turkana population. IRC did not actually receive the Track 1.5 funding until August 6, 2004, but in spite of these delays, VCT services were initiated in Lokichoggio by the end of August 2004. No HIV prevention or care services now exist in Kalokol but IRC has been asked by the Turkana District Medical Office to extend the prevention and care model used in Kakuma and Lokichoggio to this remote community. Experience in program implementation both in Kakuma and Lokichoggio puts IRC in a unique position to apply the lessons learned to Kalokol, which has many similar characteristics to Lokichoggio and is also part of Turkana district, a very remote and unique area of Kenya.

IRC has established good relationships with both the Government of Kenya and local organizations working in these communities and therefore can implement this program efficiently and effectively. There is no other organization in Kakuma with the capacity to implement this complex program, and there are no other organizations currently working in HIV prevention for both humanitarian aid workers and the host Turkana population in Lokichoggio and Kalokol.

Cost-Efficiency

This program will be implemented in the context of the broader medical and public health services provided by IRC in the Kakuma refugee camp, with funding from the United States Government (USG) and UNHCR. The State Department BPRM has indicated a commitment to continue this support to IRC in 2005. A cooperative agreement between IRC and HHS/CDC for the HIV component of the public health program is much more cost efficient than having one agency provide the medical and public health services and a different agency provide the HIV specific services. In addition, HHS/CDC providing funding to IRC allows for good inter-agency coordination between the State Department BPRM and HHS/CDC and between the USG and other donors, especially UNHCR.

Implementing a coordinated and comprehensive HIV/AIDS program in these three communities operated by the same organization allows for economies of scale and encourages the development of a network of services for these currently under-served populations. Finally, because IRC has a health and administrative infrastructure in Kakuma and Lokichoggio, funded by other donors, this HIV program can be implemented more economically than an agency, which would have to establish new and duplicative infrastructures in these remote and unique settings.

C. Funding

Approximately $600,000 is available in FY 2005 to fund this award. It is expected that the award will begin on or before July 1, 2005, and will be made for a 12-month budget period within a project period of up to five years. Funding estimates may change.

D. Where To Obtain Additional Information

For general comments or questions about this announcement, contact:

Technical Information Management, CDC Procurement and Grants Office, 2920 Brandywine Road, Atlanta, GA 30341-4146, Telephone: 770-488-2700.

For program technical assistance, contact:

Elizabeth Marum, Ph.D., Project Officer, Global Aids Program [GAP], Kenya Country Team, National Center for HIV, STD and TB Prevention, Centers for Disease Control and Prevention [CDC], P.O. Box 606 Village Market, Nairobi, Kenya, Telephone: 254-20-271-3008, E-mail: emarum@cdcnairobi.mimcom.net.

For budget assistance, contact:

Diane Flournoy, Contract Specialist, CDC Procurement and Grants Office, 2920 Brandywine Road, Atlanta, GA 30341, Telephone: 770-488-2072, E-mail: dflournoy@cdc.gov.

Dated: April 26, 2005.
William P. Nichols,
Acting Director, Procurement and Grants Office, Centers for Disease Control and Prevention.

[FR Doc. 05-8749 Filed 5-2-05; 8:45 am]

BILLING CODE 4163-18-P